GENERAL SERVICES ADMINISTRATION

[Notice-WWI-2014-02; Docket No. 2014-0003 Sequence 2]

World War One Centennial Commission; Notification of Upcoming Public Advisory Meeting

AGENCY: World War One Centennial Commission.

ACTION: Meeting Notice.

SUMMARY: Notice of this meeting is being provided according to the requirements of the Federal Advisory Committee Act, 5 U.S.C. App. 10(a)(2). This notice provides the schedule and agenda for the April 9, 2014, meeting of the World War One Centennial Commission (the Commission). The meeting is open to the public.

DATES: Effective: March 26, 2014.

Meeting date: The meeting will be held on Wednesday, April 9, 2013 starting at 10:00 a.m. Eastern Daylight Time (EDT), and ending no later than 12:00 p.m. Eastern Daylight Time (EDT). The meeting will be conducted telephonically. Persons wishing to listen to the proceedings may dial 712-432-1001 and enter access code 474845614#. Note this is not a toll-free number.

FOR FURTHER INFORMATION CONTACT: Daniel S. Dayton, Designated Federal Officer, c/o The Foundation for the Commemoration of the World Wars, 701 Pennsylvania Avenue NW., #123, Washington, DC 20004-2608 202-380-0725 (note: this is not a toll-free number).

Written Comments may be submitted to the Commission and will be made part of the permanent record of the Commission. Comments must be received by 5:00 p.m. Eastern Daylight Time (EDT), April 2, 2014 and may be provided by email to daniel.dayton@dhs.gov.

SUPPLEMENTARY INFORMATION:

Background

The World War One Centennial Commission was established by Public Law 112-272, as a commission to ensure a suitable observance of the centennial of World War I, to provide for the designation of memorials to the service of members of the United States Armed Forces in World War I, and for other purposes. Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I.

Agenda: Wednesday April 9, 2014

• Introductions and plans for today's meeting—Designated Federal Official

• Committee Reports

• Old Business

• New Business

• Public Comments

• Closing comments

Meeting Location: The Committee will convene its meeting telephonically. Persons wishing to listen to the proceedings may dial 712-432-1001 and enter access code 474845614#. Capacity for this call is 1000 callers.

Dated: March 20, 2014.
Daniel S. Dayton,
Designated Federal Official, World War I Centennial Commission.

[FR Doc. 2014-06635 Filed 3-25-14; 8:45 am]

BILLING CODE 6820-95-P